DEPARTMENT OF COMMERCE

National Telecommunications and Information Administration

Commerce Spectrum Management Advisory Committee Meeting

AGENCY: National Telecommunications and Information Administration, U.S. Department of Commerce.

ACTION: Notice of open meeting.

SUMMARY: This notice announces a public meeting of the Commerce Spectrum Management Advisory Committee (Committee). The Committee provides advice to the Assistant Secretary of Commerce for Communications and Information on spectrum management policy matters.

DATES: The meeting will be held on March 1, 2012 from 9 a.m. to 12 p.m., Pacific Standard Time.

ADDRESSES: The meeting will be held at the Stanford Institute for Economic Policy Research (SIEPR), Room 130, 366 Galvez Street, Stanford, CA 04305. Public comments may be mailed to Commerce Spectrum Management Advisory Committee, National Telecommunications and Information Administration, 1401 Constitution Avenue NW., Room 4099, Washington, DC 20230 or emailed to spectrumadvisory@ntia.doc.gov.

FOR FURTHER INFORMATION CONTACT: Bruce M. Washington, Designated Federal Officer, at (202) 482-6415 or BWashington@ntia.doc.gov; and/or visit NTIA's Web site at http://www.ntia.doc.gov/category/CSMAC.

SUPPLEMENTARY INFORMATION: Background: The Committee provides advice to the Assistant Secretary of Commerce for Communications and Information on needed reforms to domestic spectrum policies and management in order to: license radio frequencies in a way that maximizes their public benefits; keep wireless networks as open to innovation as possible; and make wireless services available to all Americans. (See charter, at http://www.ntia.doc.gov//page/2011/csmac-charter). This Committee is subject to the Federal Advisory Committee Act (FACA), 5 U.S.C. App. 2, and is consistent with the National Telecommunications and Information Administration Act, 47 U.S.C. 904(b). The Committee functions solely as an advisory body in compliance with the FACA. For more information about the Committee, visit: http://www.ntia.doc.gov/category/CSMAC.

Matters To Be Considered: The Committee will deliberate on the findings and recommendations from its four subcommittees (Search for 500 MHz, Spectrum Sharing, Spectrum Management Improvements, and Unlicensed), and identify future requirements for assessments. NTIA will post a detailed agenda on its Web site, http://www.ntia.doc.gov, prior to the meeting. There also will be an opportunity for public comment at the meeting.

Time and Date: The meeting will be held on March 1, 2012, from 9 a.m. to 12 p.m., Pacific Standard Time. The times and the agenda topics are subject to change. The meeting may be webcast or made available via audio link. Please refer to NTIA's Web site, http://www.ntia.doc.gov, for the most up-to-date meeting agenda and access information.

Place: The meeting will be held at the Stanford Institute for Economic Policy Research (SIEPR) Room 130, 366 Galvez Street, Stanford, CA 94305. The meeting will be open to the public and press on a first-come, first-served basis. Space is limited. The public meeting is physically accessible to people with disabilities. Individuals requiring accommodations, such as sign language interpretation or other ancillary aids, are asked to notify Mr. Washington, at (202) 482-6415 or BWashington@ntia.doc.gov, at least ten (10) business days before the meeting.

Status: Interested parties are invited to attend and to submit written comments to the Committee at any time before or after the meeting. Parties wishing to submit written comments for consideration by the Committee in advance of this meeting must send them to NTIA's Washington, DC office at the above-listed address and comments must be received by close of business on February 23, 2012, to provide sufficient time for review. Comments received after February 23, 2012, will be distributed to the Committee, but may not be reviewed prior to the meeting. It would be helpful if paper submissions also include a compact disc (CD) in HTML, ASCII, Word, or WordPerfect format (please specify version). CDs should be labeled with the name and organizational affiliation of the filer, and the name of the word processing program used to create the document. Alternatively, comments may be submitted electronically to spectrumadvisory@ntia.doc.gov. Comments provided via electronic mail also may be submitted in one or more of the formats specified above.

Records: NTIA maintains records of all Committee proceedings. Committee records are available for public inspection at NTIA's Washington, DC office at the address above. Documents including the Committee's charter, member list, agendas, minutes, and any reports are available on NTIA's Committee Web page at http://www.ntia.doc.gov/catergory/CSMAC.

Dated: January 31, 2012.
Kathy D. Smith,
Chief Counsel, National Telecommunications and Information Administration.

[FR Doc. 2012-2468 Filed 2-2-12; 8:45 am]

BILLING CODE 3510-60-P